DEPARTMENT OF COMMERCE

National Oceanic and Atmospheric Administration

[RTID 0648-XR072]

Endangered Species; File Nos. 22671-01, 23096, and 23200

AGENCY: National Marine Fisheries Service (NMFS), National Oceanic and Atmospheric Administration (NOAA), Commerce.

ACTION: Notice; receipt of applications for permits and a permit modification.

SUMMARY: Notice is hereby given that three applicants have applied in due form for a permit to take Atlantic (Acipenser oxyrinchus) and shortnose (Acipenser brevirostrum) sturgeon for purposes of scientific research.

DATES: Written, telefaxed, or email comments must be received on or before January 10, 2020.

ADDRESSES: The applications and related documents are available for review by selecting “Records Open for Public Comment” from the “Features” box on the Applications and Permits for Protected Species (APPS) home page, https://apps.nmfs.noaa.gov, and then selecting the applicable File No. from the list of available applications.

These documents are also available upon written request or by appointment in the Permits and Conservation Division, Office of Protected Resources, NMFS, 1315 East-West Highway, Room 13705, Silver Spring, MD 20910; phone: (301) 427-8401; fax: (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Malcolm Mohead (for File Nos. 22671-01 and 23096) or Erin Markin (for File No. 23200), (301) 427-8401.

SUPPLEMENTARY INFORMATION: The subject permits and permit modification are requested under the authority of the Endangered Species Act of 1973, as amended (ESA; 16 U.S.C. 1531 et seq.) and the regulations governing the taking, importing, and exporting of endangered and threatened species (50 CFR parts 222-226).

File No. 22671-01: Permit No. 22671 was issued on March 12, 2019 (83 FR 61375), authorizing the U.S. Geological Survey (USGS), Conte Anadromous Fish Research Laboratory, 1 Migratory Way, Turners Falls, MA 01376 (Responsible Party: Adria Elskus), to take shortnose sturgeon in the Connecticut River. Researchers are currently permitted to capture adult, sub-adult and juvenile shortnose sturgeon using gill nets or trawls (i.e., trawling is conducted between Turner Falls Dam and Holyoke Dam), measure, weigh, tag, tissue sample, determine gender via boroscopy, photograph, and prophylactically treat prior to release. A subset of sturgeon may be anesthetized and implanted with acoustic tags (internal or external) for tracking. Lethal sampling of early life stages (eggs and larvae) may occur using D-nets. The Permit Holder is also authorized to conduct scientific research and enhancement activities on captive, non-releasable shortnose sturgeon.

The permit holder requests additional authorization for blood sampling to evaluate stress levels experienced by the upstream-migrant shortnose sturgeon in upstream passage through the Holyoke fish elevator. Blood samples from treatment animals would be collected at the height of the fish passage elevator and also from control animals below the dam prior to entering the lift. Additionally, the permit holder requests trawling gear to be authorized for capturing shortnose sturgeon in the Connecticut River between Turner Falls Dam (MA) and Bellows Falls Dam (VT). The permit would expire on March 31, 2029.

File No. 23096: The University of Georgia, Warnell School of Forestry and Natural Resources, 180 E Green Street, Athens, GA 30602 (Responsible Party: Dale Greene) requests a permit to conduct scientific research on Atlantic and shortnose sturgeon to determine the presence, status, health, population dynamics, and movements of Atlantic and shortnose sturgeon in the coastal river basins and estuaries of Georgia and Northeast Florida (Savannah, Ogeechee, Altamaha, Satilla, and St. Marys (GA) and St. Johns/Nassau (FL)). Atlantic and shortnose sturgeon would be captured using gill nets and/or trammel nets. Juvenile, sub-adult, and adult sturgeon would be PIT tagged, tissue sampled (fin clip), measured, weighed, and photographed. A subset of individual animals may be anesthetized, internally or externally acoustically tagged, biologically sampled (fin ray, blood, gonads), and undergo endoscopy to determine sex. Lethal sampling of sturgeon eggs and larvae using artificial substrates would occur to verify spawning incidence. Tissue samples would be exported to Canada for DNA virus analysis. Incidental mortality of up to one adult/sub-adult and one juvenile Atlantic sturgeon may occur annually in the Savannah, Ogeechee, Altamaha, and Satilla Rivers; and up to one adult/sub-adult and one juvenile shortnose sturgeon may occur annually in the Savannah, Ogeechee, and Altamaha Rivers. The permit would be valid for up to 10 years from the date of issuance.

File No. 23200: The University of North Carolina, Wilmington, 601 South College Road, Wilmington, NC 28403 (Responsible Party: Frederick Scharf), requests a permit to conduct scientific research on adult, sub-adult, and juvenile Atlantic and shortnose sturgeon to determine their abundance, distribution, habitat use, and migration dynamics in the coastal rivers and estuaries of North Carolina basins (Cape Fear, Neuse, Tar/Pamlico, Roanoke/Chowan). Atlantic and shortnose sturgeon would be captured using gill nets, trammel nets, or trawls, measured, weighed, tagged (PIT, Floy), biologically sampled (tissue), and photographed/videoed. A subset of Atlantic sturgeon would be anesthetized and receive an internal acoustic tag. The permit would be valid for up to 5 years from the date of issuance.

Dated: December 6, 2019.
Amy Sloan,
Acting Chief, Permits and Conservation Division, Office of Protected Resources, National Marine Fisheries Service.

[FR Doc. 2019-26666 Filed 12-10-19; 8:45 am]

BILLING CODE 3510-22-P